DEPARTMENT OF LABOR

Employment and Training Administration

[TA-W-82,663]

Belden, Inc. Including On-Site Leased Workers From Adecco Horseheads, New York; Notice of Affirmative Determination Regarding Application for Reconsideration

By application dated July 8, 2013, workers requested administrative reconsideration of the negative determination regarding workers' eligibility to apply for Trade Adjustment Assistance (TAA) applicable to workers and former workers of the subject firm. The determination was issued on June 14, 2013 and the Notice of Determination was published in the Federal Register on July 2, 2013 (78 FR 39776). The subject firm produces coaxial cable connectors and related parts.

The initial investigation resulted in a negative determination based on the findings that there was no increase in imports by the workers' firm or its customers, nor was there a foreign shift or acquisition by the workers' firm or its customers.

The request for reconsideration alleges, among other things, that Belden has been outsourcing to China and Mexico for twenty years, that the subject firm's “splice connectors are now almost solely produced in Asia, including . . . TBCF81” and “In 2012, Belden bought PPC . . . PPC sources almost all of its 350 million Drop-line connector components in China.”

The Department has carefully reviewed the request for reconsideration and the existing record, and has determined that the Department will conduct further investigation to clarify key facts and to determine if the workers meet the eligibility requirements of the Trade Act of 1974, as amended.

Conclusion

After careful review of the application, I conclude that the claim is of sufficient weight to justify reconsideration of the U.S. Department of Labor's prior decision. The application is, therefore, granted.

Signed at Washington, DC, this 8th day of August, 2013.
Del Min Amy Chen,
Certifying Officer, Office of Trade Adjustment Assistance.

[FR Doc. 2013-20805 Filed 8-26-13; 8:45 am]

BILLING CODE 4510-FN-P